CORPORATION FOR NATIONAL AND COMMUNITY SERVICE

Notice of Availability of Funds for AmeriCorps State Formula Program Grants in North Dakota and South Dakota and Notice of Technical Assistance Calls for Potential Applicants

AGENCY: Corporation for National and Community Service.

ACTION: Notice of availability of funds for new and renewal grants; notice of availability of 2000 application guidelines; notice of technical assistance calls.

SUMMARY: The Corporation for National and Community Service (Corporation) announces the availability of approximately $500,000 to support new and continuing national service programs in North Dakota and approximately $500,000 to support new and continuing national service programs in South Dakota. (CFDA #94.004). The Corporation has scheduled two technical assistance calls for potential applicants.

DATES: To be considered, the Corporation must receive applications by 3:30 p.m., Eastern Daylight Time, Monday, May 15, 2000.

ADDRESSES: Applications must be submitted to the Corporation for National Service, 1201 New York Avenue NW, Box SND, Washington, D.C. 20525. The Corporation will not accept applications that are submitted via facsimile or by e-mail transmission.

FOR FURTHER INFORMATION: For further information, to obtain a copy of the application guidelines, or to register for one of the technical assistance calls, please contact Jamia McLean, Corporation for National Service, 1201 New York Avenue, NW, Washington, D.C. 20525, phone (202) 606-5000, ext. 292, TDD (202) 565-2799.

SUPPLEMENTARY INFORMATION: These funds are authorized under the National and Community Service Act of 1990, as amended, and represent the statute's population-based provision of program assistance formula funds that, in most cases, flow through approved state commissions on national and community service. Because neither North Dakota nor South Dakota currently maintains an approved state commission or alternative administrative entity, eligible entities may apply directly to the Corporation for formula funds. Local government agencies, institutions of higher education, public or private nonprofit organizations, and Indian Tribes in North Dakota and South Dakota are eligible entities. An organization described in section 501(c)(4) of the Internal Revenue Code of 1986, 26 U.S.C. 501(c)(4), that engages in lobbying activities is not eligible for these funds.

Requirements relating to this assistance are published at 45 CFR Parts 2510 et seq. and are further described in the application guidelines. The Corporation will also provide Principles for High Quality National Service Programs, which includes program examples, upon request.

Organizations interested in applying for these program funds may participate in one of two conference calls to be held on April 3, 2000 and April 10, 2000, respectively, during which Corporation staff will provide technical assistance to potential applicants. The calls will begin at 2:00 p.m. and conclude at 4:00 p.m. (E.D.T.). Upon registration for one of the calls, you will be provided with the applicable 800 number needed for participation.

The provision of these grants is subject to the availability of appropriated funds.

Dated: March 30, 2000.
Peter Heinaru,
Director, AmeriCorps*State/National.

[FR Doc. 00-8256 Filed 4-3-00; 8:45 am]

BILLING CODE 6050-28-U